FEDERAL COMMUNICATIONS COMMISSION

47 CFR Part 73

[DA 07-52; MB Docket No. 05-114; RM-11190]

Radio Broadcasting Services; Hale Center, TX

AGENCY: Federal Communications Commission.

ACTION: Final rule.

SUMMARY: The staff grants a rulemaking petition filed by Charles Crawford to allot Channel 236C1 to Hale Center, Texas, as a first local aural service. With this action, the proceeding is terminated. See SUPPLEMENTARY INFORMATION.

DATES: Effective February 26, 2007.

ADDRESSES: Federal Communications Commision, 445 12th Street, SW., Washington, DC 20554.

FOR FURTHER INFORMATION CONTACT: Andrew J. Rhodes, Media Bureau, (202) 418-2180.

SUPPLEMENTARY INFORMATION: This is a synopsis of the Commission's Report and Order, MB Docket No. 05-114, adopted January 10, 2007, and released January 12, 2007. The full text of this Commission decision is available for inspection and copying during normal business hours in the FCC Reference Information Center (Room CY-A257), 445 12th Street, SW., Washington, DC 20554. The complete text of this decision may also be purchased from the Commission's copy contractor, Best Copy and Printing, Inc., Portals II, 445 12th Street, SW., Room CY-B402, Washington, DC 20054, telephone 1-800-378-3160 or http://www.BCPIWEB.com.

The reference coordinates for Channel 236C1 at Hale Center, TX, are 34-13-00 NL and 101-34-00 WL. See 70 FR 17384, April 6, 2005.

The Commission will send a copy of the Report and Order in this proceeding in a report to be sent to Congress and the Government Accountability Office pursuant to the Congressional Review Act, see 5 U.S.C. 801(a)(1)(A).

List of Subjects in 47 CFR Part 73

Radio, Radio broadcasting.

As stated in the preamble, the Federal Communications Commission amends 47 CFR part 73 as follows:

PART 73—RADIO BROADCAST SERVICES

1. The authority for part 73 continues to read as follows:

Authority: 47 U.S.C. 154, 303, 334, 336.

§ 73.202 [Amended]

2. Section 73.202(b), the Table of FM Allotments under Texas, is amended by adding Hale Center, Channel 236C1.

Federal Communications Commission.
John A. Karousos,
Assistant Chief, Audio Division, Media Bureau.

[FR Doc. E7-1522 Filed 1-30-07; 8:45 am]

BILLING CODE 6712-01-P